Title 3—

The President

Proclamation 7570 of June 4, 2002

National Homeownership Month, 2002

By the President of the United States of America

A Proclamation

Homeownership is an important part of the American Dream. As President, I am committed to helping many more Americans achieve that dream. A home provides shelter and a safe place where families can prosper and children can thrive. For many Americans, their home is an important financial investment, and it can be a source of great personal pride and an important part of community stability.

Homeownership encourages personal responsibility and the values necessary for strong families. Where homeownership flourishes, neighborhoods are more stable, residents are more civic-minded, schools are better, and crime rates decline. Thanks to the resources available in our Nation, more Americans own homes today than at any time in our history. However, among African American and Hispanic families, fewer than half are home owners. My Administration is working to provide all families with the tools and information they need to accumulate wealth and overcome barriers to homeownership.

The Department of Housing and Urban Development is partnering with State and local governments, community groups, and the private sector to make the most effective use of Federal funds. Through a combination of down payment assistance, tax incentives, and education about the process and responsibilities of homeownership, we are helping thousands of Americans buy homes and pursue a better quality of life.

During National Homeownership Month, I encourage all Americans to learn more about financial management and to explore homeownership opportunities in their communities. By taking this important step, individuals and families help safeguard their financial futures and contribute to the strength of our Nation.

NOW, THEREFORE, I, GEORGE W. BUSH, President of the United States of America, by virtue of the authority vested in me by the Constitution and laws of the United States, do hereby proclaim June 2002 as National Homeownership Month. I call upon the people of the United States to join me in recognizing the importance of providing all our citizens a chance to achieve the American Dream.

IN WITNESS WHEREOF, I have hereunto set my hand this fourth day of June, in the year of our Lord two thousand two, and of the Independence of the United States of America the two hundred and twenty-sixth.

B

[FR Doc. 02-14534

Filed 6-6-02; 8:45 am]

Billing code 3195-01-P